DEPARTMENT OF ENERGY

Federal Energy Regulatory Commission

[Docket No. EC04-15-000, et al.]

ESI Energy,LLC, et al.; Electric Rate and Corporate Filings

November 18, 2003.

The following filings have been made with the Commission. The filings are listed in ascending order within each docket classification.

1. ESI Energy, LLC; FPL Energy Stateline Holdings, L.L.C.

[Docket No. EC04-15-000]

Take notice that on November 7, 2003, ESI Energy, LLC and FPL Energy Stateline Holdings, L.L.C. (Applicants) pursuant to Section 203 of the Federal Power Act, filed a joint application for approval of a corporate reorganization that will not change the ultimate ownership of the facilities.

Comment Date: November 28, 2003.

2. Central Mississippi Generating Company, LLC

[Docket Nos. EC04-16-000 and EL04-17-000]

Take notice that on November 7, 2003, Central Mississippi Generating Company, LLC (Central Mississippi) filed with the Federal Energy Regulatory Commission an application pursuant to Section 203 of the Federal Power Act for authorization in connection with the proposed change in ownership and operational control of jurisdictional facilities associated with an approximately 526-MW natural gas-fired generation facility located in Attala County, Mississippi, adjacent to Entergy's McAdams Substation, which is currently operated by Attala Generating Company, LLC. Central also requests the Commission to issue an order disclaiming jurisdiction over certain passive participants in the transaction.

Comment Date: November 28, 2003.

3. Entergy Asset Management, Inc., et al.

[Docket No. EC04-17-000]

Take notice that on November 10, 2003, Entergy Asset Management, Inc. (EAM), on behalf of itself and EK Holding I, LLC (EKH I), EK Holding II, LLC (EKH II), Entergy Investments Holding Company, Inc. (EIHC), Entergy Global Trading Holdings, Ltd. (EGTH), and Entergy Power Generation Corporation (EPGC and collectively with EAM, EKH I, EKH II, EIHC and EGTH, the Entergy Applicants), and ENTEROCK, LLC on its own behalf tendered for filing an application requesting all necessary authorizations under Section 203 of the Federal Power Act necessary for the Entergy Applicants to engage in a corporate reorganization that will alter the upstream ownership of certain facilities subject to the Commission's jurisdiction owned by Crete Energy Venture, LLC, Entergy Power Ventures, L.P., Entergy-Koch Trading, LP, Northern Iowa Windpower, LLC, and Warren Power, LLC and for ENTEROCK to acquire an indirect interest in jurisdictional facilities through acquisition of an interest in EAM.

EAM states that copies of this filing have been served on the Arkansas Public Service Commission, the Louisiana Public Service Commission, the City Council of New Orleans, the Mississippi Public Service Commission, and the Texas Public Utility Commission.

Comment Date: December 1, 2003.

4. Central Mississippi Generating Company, LLC

[Docket No. EG04-16-000]

On November 7, 2003, Central Mississippi Generating Company, LLC (Central Mississippi) filed with the Federal Energy Regulatory Commission an application for determination of exempt wholesale generator status pursuant to Section 32 of the Public Utility Holding Company Act of 1935 and Part 365 of the Commission's regulations.

As more fully explained in the application, Central Mississippi states that it is a limited liability company that will be engaged either directly or indirectly and exclusively in the business of owning and operating an electric generation facility located in Mississippi.

Comment Date: November 28, 2003.

5. Redbud Energy LP

[Docket No. EG04-17-000]

On November 7, 2003, Redbud Energy LP filed with the Federal Energy Regulatory Commission an application for redetermination of exempt wholesale generator status pursuant to Part 365 of the Commission's regulations.

Comment Date: November 28, 2003.

6. Morgan Stanley Capital Group Inc., South Eastern Electric Development Corporation, South Eastern Generating Corporation, Power Contract Finance, L.L.C., Power Contract Financing II, L.L.C., Power Contract Financing II, Inc., MS Retail Development Corp. (not consolidated)

[Docket Nos. ER94-1384-030, ER99-2329-002, ER00-1803-001, ER02-1485-003, ER03-1108-002, ER03-1109-002, and ER03-1315-001]

Take notice that on November 10, 2003 Morgan Stanley Capital Group Inc., on behalf of itself and its affiliates South Eastern Electric Development Corporation, South Eastern Generating Corporation, Power Contract Finance, L.L.C., Power Contract Financing II, L.L.C., Power Contract Financing II, Inc., and MS Retail Development Corp., tendered for filing an updated market power analysis in compliance with the Commission's orders authorizing each of them to engage in wholesale sales of electric power at market-based rates.

Comment Date: December 1, 2003.

7. GS Electric Generating Cooperative, Inc.

[Docket No. ER97-3583-002]

Take notice that on November 10, 2003, GS Electric Generating Cooperative, Inc. (GSE) tendered for filing with the Federal Energy Regulatory Commission its triennial updated market analysis (Triennial Analysis) in accordance with the Commission(s Order in Docket No. ER97-3853-000, which authorized GSE to sell power at market-based rates.

Comment Date: December 1, 2003.

8. Madison Gas and Electric Company

[Docket No. ER00-586-002]

Take notice that on November 10, 2003, Madison Gas and Electric Company (MGE) submitted for filing its updated market analysis in compliance with the Commission Order issued in Docket No. ER00-586-000 on February 9, 2000.

Comment Date: December 1, 2003.

9. Exelon Generation Company, L.L.C., PECO Energy Company, Commonwealth Edison Company, AmerGen Energy Company, L.L.C., Unicom Power Marketing, Inc., Exelon Energy Company

[Docket Nos. ER00-3251-005, ER99-1872-005, ER98-1734-006, ER99-754-008, ER97-3954-016, and ER01-1919-002]

Take notice that on November 7, 2003, Exelon Generation Company, L.L.C., PECO Energy Company, Commonwealth Edison Company and related companies (collectively, Applicants) tendered for filing a market power study update pursuant to the Commission's order in Exelon Generation Company L.L.C., et al., 93 FERC ¶ 61,140 (2000).

Comment Date: November 28, 2003.

10. Entergy-Koch Trading, LP

[Docket No. ER01-2781-002]

Take notice that on October 30, 2003, Entergy-Koch Trading, LP (EKT) submitted for filing notification of a non-material change in the characteristics the Commission relied upon in granting EKT market-based rate authorization under Section 205 of the Federal Power Act.

Comment Date: November 28, 2003.

11. California Independent System Operator Corporation

[Docket No. ER03-1222-002]

Take notice that on November 7, 2003, the California Independent System Operator Corporation (ISO) pursuant to Commission' October 17, 2003 Order in Docket Nos. ER03-1222-000 and 001, submitted for filing FERC Electric Tariff, First Replacement Volume No. 1, Substitute Third Revised Sheet No. 385.

Comment Date: November 28, 2003.

12. FPL Energy Sooner Wind, LLC

[Docket No. ER03-1333-001]

Take notice that on November 6, 2003, FPL Energy Sooner Wind, LLC tendered for filing an amendment to the application for authorization to sell energy and capacity at market-based rates pursuant to Section 205 of the Federal Power Act filed on September 12, 2003.

Comment Date: November 28, 2003.

13. Arizona Public Service Company

[Docket No. ER03-347-002]

Take notice that on November 10, 2003, Arizona Public Service Company (APS) filed with the Commission a Refund Report in Compliance with the letter order issued July 9, 2003 in Docket No. ER03-347-000.

Comment Date: December 1, 2003.

14. Southern Company Services, Inc.

[Docket No. ER03-872-003]

Take notice that on November 10, 2003, Southern Company Services, Inc., on behalf of Georgia Power Company, made a compliance filing in accordance with the Federal Energy Regulatory Commission's Order in Southern Company Services, Inc., 105 FERC ¶ 61,055 (2003).

Comment Date: December 1, 2003.

15. Southern California Edison Company

[Docket No. ER04-160-000]

Take notice that on November 6, 2003, that Southern California Edison Company (SCE), submitted for filing a Notice of Cancellation of the Amended and Restated Edison-Banning Pacific Intertie Firm Transmission Service Agreement between SCE and the City of Banning.

Comment Date: November 28, 2003.

16. Southern California Edison Company

[Docket No. ER04-161-000]

Take notice that on November 6, 2003, Southern California Edison Compnay (SCE) tendered for filing a Notice of Cancellation of the Amended and Restated Edison-Azusa Pacific Intertie Firm Transmission Service Agreement between SCE and the City of Azusa.

Comment Date: November 28, 2003.

17. Southern California Edison Company

[Docket No. ER04-165-000]

Take notice that on November 6, 2003, Southern California Edison Company (SCE) tendered for filing a Notice of Cancellation of the Amended and Restated Edison-Colton Pacific Intertie Firm Transmission Service Agreement between SCE and the City of Colton.

Comment Date: November 28, 2003.

18. MxEnergy Electric Inc.

[Docket No. ER04-170-000]

Take notice that on November 6, 2003, MxEnergy Electric Inc.(MxEnergy) pursuant to 18 CFR 35.16 and 131.51 of the Commission's regulations, filed a Notice of Succession and a revised rate tariff.

Comment Date: November 28, 2003.

19. Geysers Power Company, LLC

[Docket No. ER04-171-000]

Take notice that on November 6, 2003, Geysers Power Company, LLC (Geysers) tendered for filing updated rate schedule sheets for calendar year 2004 for its Reliability Must-Run service agreements with the California Independent System Operator (ISO), designated as Rate Schedules FERC Nos. 4 and 5.

Geysers states that copies of the filing have been served upon the ISO and Pacific Gas and Electric Company.

Comment Date: November 28, 2003.

20. PJM Interconnection, L.L.C.

[Docket No. ER04-172-000]

Take notice that on November 6, 2003, PJM Interconnection, L.L.C. (PJM) submitted for filing amendments to Schedule 3 of the Amended and Restated Operating Agreement of PJM Interconnection L.L.C. to provide for proration of the $5,000 annual PJM membership fee for those entities that are members for less than 12 months in the initial calendar year of their membership.

PJM requests a waiver of the Commission's notice requirements to permit an effective date of November 7, 2003 the day after the date of this filing.

PJM states that copies of this filing have been served on all PJM members, and each state electric utility regulatory commission in the PJM region.

Comment Date: November 28, 2003.

21. California Independent System Operator Corporation

[Docket No. ER04-174-000]

Take notice that on November 6, 2003, the California Independent System Operator Corporation (ISO), tendered for filing a revised Participating Generator Agreement (PGA) between the ISO and Energia de Baja California, S. de R.L. de C.V. (EBC) for acceptance by the Commission. ISO states that the purpose of the filing is to conform the PGA to the ISO's new format for specification of the technical characteristics of a Generating Unit.

The ISO states that this filing has been served on EBC, the California Public Utilities Commission, and all entities that are on the official service lists for Docket Nos. ER02-2009 and ER03-617-000.

The ISO is requesting waiver of the 60-day prior notice requirement to allow the revised Schedule 1 to be made effective as of July 25, 2003.

Comment Date: November 28, 2003.

22. California Independent System Operator Corporation

[Docket No. ER04-175-000]

Take notice that on November 6, 2003, the California Independent System Operator Corporation (ISO), tendered for filing a revised Participating Generator Agreement between the ISO and City of Pasadena for acceptance by the Commission. The purpose of this revision is to conform Schedule 1 of the Participating Generator Agreement to the ISO's new format for specification of the technical characteristics of a Generating Unit, and to add certain units and remove certain units from this Schedule.

The ISO states that this filing has been served on City of Pasadena, the California Public Utilities Commission, and all entities that are on the official service list for Docket No. ER99-3617. The ISO is requesting waiver of the 60-day prior notice requirement to allow the revised Schedule 1 to be made effective as of August 21, 2003.

Comment Date: November 28, 2003.

23. PPL Electric Utilities Corporation

[Docket No. ER04-176-000]

Take notice that on November 7, 2003, PPL Electric Utilities Corporation (PPL Electric) filed a supplement to Rate Schedule FERC No. 116, an umbrella Borderline Interchange Agreement between PPL Electric and Metropolitan Edison Company. PPL Electric states that the supplement identifies an additional borderline service customer.

PPL Electric states that a copy of this filing has been provided to Metropolitan Edison Company and to the Pennsylvania Public Utility Commission.

Comment Date: November 28, 2003.

24. El Paso Electric Company

[Docket No. ER04-177-000]

Take notice that on November 7, 2003, El Paso Electric Company (EPE) tendered for filing First Amended and Restated Interconnection Agreement, dated October 9, 2003, between EPE and Public Service Company of New Mexico. EPE seeks an effective date for the revised interconnection agreement of November 8, 2003.

Comment Date: November 28, 2003.

25. Southern California Edison Company

[Docket No. ER04-178-000]

Take notice that on November 7, 2003, Southern California Edison Company (SCE) tendered for filing a revised rate sheet to the Interconnection Facilities Agreement (IFA) Between Southern California Edison Company and State of California Department of Water Resources (CDWR). SCE states that the purpose of this filing is to reduce the Interconnection Facilities Charge under the IFA. SCE requests that the revised rate for these services be made effective May 7, 2002.

SCE states that copies of this filing were served upon the Public Utilities Commission of the State of California and CDWR.

Comment Date: November 28, 2003.

26. Illinois Power Company

[Docket No. ER04-179-000]

Take notice that on November 7, 2003, Illinois Power Company (Illinois Power) tendered for filing Second Revised Interconnection Agreement entered into by Illinois Power and AmerGen Energy Company, L.L.C. (First Revised Service Agreement No. 328). Illinois Power requests an effective date of November 4, 2003.

Comment Date: November 28, 2003.

27. Central Mississippi Generating Company, LLC

[Docket No. ER04-180-000]

On November 7, 2003, Central Mississippi Generating Company, LLC (Central Mississippi) filed, under Section 205 of the Federal Power Act, an application requesting that the Commission: (1) Accept for filing its proposed market-based FERC Rate Schedule No. 1; (2) grant blanket authority to make market-based wholesale sales of capacity and energy under the FERC Rate Schedule No. 1; (3) grant authority to sell ancillary services at market-based rates; and (4) grant such waivers and blanket authorizations as the Commission has granted in the past to other nonfranchised entities with market-based rate authority.

Comment Date: November 28, 2003.

28. American Electric Power Service Corporation

[Docket No. ER04-181-000]

Take notice that on November 10, 2003, the American Electric Power Service Corporation (AEPSC) tendered for filing an Amended Interconnection and Operation Agreement between Ohio Power Company and Duke Energy Hanging Rock, LLC. AEPSC states that the agreement is pursuant to the AEP Companies' Open Access Transmission Service Tariff (OATT) that has been designated as First Revised Service Agreement No. 315 to the Operating Companies of the American Electric Power System FERC Electric Tariff Third Revised Volume No. 6, effective July 31, 2001. AEP requests an effective date of November 7, 2003.

AEP states that a copy of the filing was served upon Duke Energy Hanging Rock, LLC and the Public Utilities Commission of Ohio.

Comment Date: December 1, 2003.

29. New York Independent System Operator, Inc.

[Docket No. ER04-182-000]

Take notice that on November 10, 2003, the New York Independent System Operator, Inc. (NYISO) filed revisions to its Market Administration and Control Area Services Tariff (Services Tariff) to amend the procedures for forecasting the Capability Year peak Loads for the purposes of determining Capability Year Unforced Capacity.

The NYISO states that it has served a copy of this filing upon all parties that have executed service agreements under the NYISO(s OATT and Services Tariff and to the electric utility regulatory agencies in New York, New Jersey, and Pennsylvania.

Comment Date: December 1, 2003.

30. Great Bay Hydro Corporation

[Docket No. ER04-183-000]

Take notice that on November 10, 2003, Great Bay Hydro Corporation (GBHC) filed an application for authority to sell electric energy, capacity and certain ancillary services at market-based rates under Section 205(a) of the Federal Power Act, 16 U.S.C. 824d(a), and accompanying requests for certain blanket approvals and for the waiver of certain Commission regulations. GBHC requests that the Commission accept its Original Rate Schedule FERC No. 1 for filing.

Comment Date: December 1, 2003.

31. California Independent System Operator Corporation

[Docket No. ER04-185-000]

Take notice that the California Independent System Operator Corporation (ISO), on November 10, 2003, tendered for filing a revision to the Metered Subsystem Agreement between the ISO and Silicon Valley Power (SVP) for acceptance by the Commission. The ISO states that the purpose of this revision is to conform Schedule 14 of the Metered Subsystem Agreement to the ISO's new format for specification of the technical characteristics of a Generating Unit.

The ISO states that this filing has been served on SVP, the California Public Utilities Commission, and all entities on the official service list for Docket No. ER02-2321-000.

The ISO is requesting waiver of the 60-day prior notice requirement to allow the revised Schedule 14 to be made effective as of May 30, 2003.

Comment Date: December 1, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E3-00371 Filed 11-24-03; 8:45 am]

BILLING CODE 6717-01-P